DEPARTMENT OF DEFENSE

Department of the Air Force

[Docket ID: USAF-2014-0006]

Submission for OMB Review; Comment Request

ACTION: Notice.

SUMMARY: The Department of Defense has submitted to OMB for clearance, the following proposal for collection of information under the provisions of the Paperwork Reduction Act.

DATES: Consideration will be given to all comments received by October 17, 2014.

FOR FURTHER INFORMATION CONTACT: Fred Licari, 571-372-0493.

SUPPLEMENTARY INFORMATION: Title, Associated Form and OMB Number: Global Air Transportation Execution System; OMB Control Number 0701-XXXX.

Type of Request: New Collection.

Number of Respondents: 184,589.

Responses per Respondent: 1.

Annual Responses: 184,589.

Average Burden per Response: 5 minutes.

Annual Burden Hours: 15,382 hours.

Needs and Uses: Passenger records are used to prepare aircraft manifests for passenger identification processing and movement on military aircraft, commercial contract (charter) aircraft, and on seats reserved (blocked) on regularly scheduled commercial aircraft at military and civilian airports. Records contain PII are used to: Develop billing data to the user Military Services or other organizations; determine passenger movement trends; forecast future travel requirements; resolve transportation related problems; and screening for customs, immigration, and transportation security purposes.

Affected Public: Individuals or Households.

Frequency: On occasion.

Respondent's Obligation: Required to Obtain or Retain Benefits.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Frederick Licari at WHS/ESD Directives Division, 4800 Mark Center Drive, East Tower, Suite 02G09, Alexandria, VA 22350-3100.

Dated: September 11, 2014.
Aaron Siegel,
Alternate OSD Federal Register Liaison Officer, Department of Defense.

[FR Doc. 2014-22053 Filed 9-16-14; 8:45 am]

BILLING CODE 5001-06-P